DEPARTMENT OF HOUSING AND URBAN DEVELOPMENT

[Docket No. FR-5043-N-07]

Notice of Proposed Information Collection for Public Comment on Satisfaction With Service Coordinator Program

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: October 23, 2006.

ADDRESSES: Interested persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Cheryl A. Levine, Ph.D., Department of Housing and Urban Development, Office of Policy Development and Research, 451 7th Street, SW., Room 8140, Washington, DC 20410; telephone (202) 708-3700, extension 3928 (this is not a toll-free number). Copies of the proposed data collection and other available documents may be obtained from Dr. Levine.

SUPPLEMENTARY INFORMATION: The Department will submit the proposed information collection to OMB for review, as required by the Paperwork Reduction Act of 1995, 44 (U.S.C. Chapter 35, as amended).

This Notice solicits comments from members of the public and affected agencies concerning the proposed collection of information for the following purposes: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology that will reduce respondent burden (e.g., permitting electronic submission of responses).

This Notice also lists the following information:

Title of Proposal: Study of the HUD Service Coordinator Program.

Description of the need for the information and proposed use: The Department does not know the extent of properties with HUD Service Coordinator Grants. This research effort will provide important information about the extent and impact of the Service Coordinator Program that is not otherwise available from HUD records. This research serves two purposes. First, through developing an estimate of the number of eligible projects that actually have service coordinators. This study will assess the availability of service coordinators for residents of Multifamily assisted housing. Second, to better understand what difference service coordination makes in providing supportive services to elderly and non-elderly people with disabilities living in HUD-assisted housing. This study will provide some evidence of the importance of service coordinators for improving the ability to age in place. This study will provide a comparison of satisfaction with provisions of service coordination in HUD Multifamily-assisted properties that do or do not participate in the Service Coordinator Program.

Members of the affected public: This information collection involves a telephone survey of Multifamily property managers. The survey will be administered to a statistical sample of properties that are eligible for the Service Coordinator Program. The Service Coordinator Program provides grants and rental subsidy funding for the employment and support of Service Coordinators in insured and assisted housing, Multifamily developments that were designed for elderly or non-elderly persons with disabilities and continue to operate as such. However, not all housing properties that are eligible for this program participate. Also, due to limitations in HUD data, we do not know to what extent housing properties are able to provide service coordination if they do not participate in the Service Coordinator Program.

Estimation of the total number of hours needed to prepare information collection including number of respondents, frequency of response, and hours of response: Approximately 400 Multifamily property managers will be surveyed on a one-time basis. Each survey is expected to take 30 minutes. Total burden hours are 200.

Status of the proposed information collection: Pending OMB approval.

Authority: Section 3506 of the Paperwork Reduction Act of 1995, 44 U.S.C. Chapter 35 (as amended).

Dated: August 15, 2006.
Darlene F. Williams,
Assistant Secretary for Policy Development and Research.

[FR Doc. E6-13994 Filed 8-23-06; 8:45 am]

BILLING CODE 4210-67-P